DEPARTMENT OF JUSTICE

National Institute of Corrections

Advisory Board Meeting

Time and Date: 9 a.m. To 4:30 p.m. on Monday, June 4, 2001 & 8:30 a.m. To 12 noon on Tuesday, June 5, 2001.

Place: Raintree Plaza Hotel & Conference Center, 1900 Ken Pratt Boulevard, Longmont, Colorado 80501.

Status: Open.

Matters to be Considered: Update on Interstate Compact Activities; Presentations on Corrections Population Decline, Office of Victims of Crime Funding Allocations, and Publication on Impact of Job Stress on Corrections Officers; and Proposed Initiative to Collect Information on Federal Grants Available to Corrections Entities.

FOR FURTHER INFORMATION CONTACT: Larry Solomon, Deputy Director, 202-307-3106, ext. 155.

Morris L. Thigpen,
Director.

[FR Doc. 01-11089 Filed 5-2-01; 8:45 am]

BILLING CODE 4410-36-M